FEDERAL COMMUNICATIONS COMMISSION

[OMB 3060-1242]

Information Collection Being Reviewed by the Federal Communications Commission Under Delegated Authority

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before December 12, 2017. If you anticipate that you will be submitting comments, but find it difficult to do so within the period of time allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: As part of its continuing effort to reduce paperwork burdens, and as required by the PRA of 1995 (44 U.S.C. 3501-3520), the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-1242.

Title: Qualified 4G LTE Coverage Data Collection for Mobility Fund Phase II.

Form Number: N/A.

Type of Review: Extension of a currently approved information collection.

Respondents: Business or other for-profit entities, not-for-profit institutions, and state, local or tribal governments.

Estimated Number of Respondents and Responses: 50 respondents and 50 responses.

Estimated Time per Response: 64 hours.

Frequency of Response: One-time reporting requirement.

Obligation to Respond: Required to obtain or retain benefits. Statutory authority for this information collection is contained in sections 154, 254, and 303(r) of the Communications Act, as amended, 47 U.S.C. 4, 254, 303(r).

Estimated Total Annual Burden: 3,200 hours.

Total Annual Costs: None.

Nature and Extent of Confidentiality: To information collected under this collection is confidential and will not be made publicly available.

Privacy Act Impact Assessment: No impact(s).

Needs and Uses: A request for approval of this new information collection will be submitted to the Office of Management and Budget (OMB) after this 60-day comment period in order to obtain the full three-year clearance from OMB. In its November 2011 USF/ICC Transformation Order (FCC 11-161), the Commission established the Mobility Fund, which consists of two phases. Mobility Fund Phase I (MF-I) provided one-time universal service support payments to immediately accelerate deployment of mobile broadband services. MF-II will use a reverse auction to provide ongoing universal service support payments to continue to advance deployment of such services. The Commission adopted the rules and framework for MF-I in the USF/ICC Transformation Order, and sought comment in an accompanying further notice of proposed rulemaking on the proposed framework for MF-II. In its February 2017 Mobility Fund II Report and Order (MF-II Report and Order) (FCC 17-11), the FCC adopted the rules and framework for moving forward expeditiously with the MF-II auction. Among other things, the Commission stated in the MF-II Report and Order that, prior to the auction, it would establish a map of areas presumptively eligible for MF-II support based on the most recently available FCC Form 477 mobile wireless coverage data, and provide a limited timeframe for parties to challenge those initial determinations during the pre-auction process.

The Commission received serval petitions for reconsideration of the MF-II Report and Order, including one asking it to reconsider the decision to use existing FCC Form 477 data as the basis for determining the map of areas presumptively eligible for MF-II support, and offering an industry consensus proposal asking the Commission to undertake a new, one-time data collection with specified data parameters tailored to MF-II to determine the areas in which there is deployment of qualified Long Term Evolution (LTE). On August 4, 2017, the Commission released an Order on Reconsideration and Second Report and Order (FCC 17-102) in which it, among other things, reconsidered its earlier decision to use FCC Form 477 data to compile the map of areas presumptively eligible for MF-II support. The Commission decided it would instead conduct a new, one-time data collection of 4G LTE coverage data that will be used for this purpose, concluding that for purposes of implementing MF-II expeditiously, this approach will provide the Commission and interested parties with the best available starting point for the challenge process and should result in fewer and more narrowly-focused challenges regarding representations of coverage.

Only those providers that have previously reported 4G LTE coverage in FCC Form 477 and have qualified 4G LTE coverage (defined by download speeds of 5 Mbps at the cell edge with 80 percent probability and a 30 percent loading factor) will be required to submit data under this new, one-time information collection. Such providers will be required to file propagation maps and model details with the Commission indicating their current 4G LTE coverage in accordance with a public notice that will be issued in advance of the start of period within which providers must make their filings that provides instructions for how to file the data submission, including a data specification, formatting information, and any other technical parameters that may be necessary for such filings. The Commission will use the new coverage data, in conjunction with subsidy data available from the Universal Service Administrative Company (USAC), to create the map of areas presumptively eligible for MF-II support.

Federal Communications Commission.
Marlene H. Dortch,
Secretary, Office of the Secretary.

[FR Doc. 2017-22185 Filed 10-12-17; 8:45 am]

BILLING CODE 6712-01-P